FEDERAL COMMUNICATIONS COMMISSION

47 CFR Part 0

[DA 04-447]

List of Office of Management and Budget Approved Information Collection Requirements

AGENCY: Federal Communications Commission.

ACTION: Final rule.

SUMMARY: This document revises the Commission's list of Office of Management and Budget (OMB) approved public information collection requirements with their associated OMB expiration dates. This list will provide the public with a current list of public information collection requirements approved by OMB and their associated control numbers and expiration dates as of February 29, 2004.

DATES: Effective March 25, 2004.

FOR FURTHER INFORMATION CONTACT: Judith B. Herman, Office of the Managing Director, (202) 418-0214 or via the Internet at Judith-B.Herman@fcc.gov.

SUPPLEMENTARY INFORMATION: This document adopted on March 5, 2004 and released on March 16, 2004 by the Managing Director in DA 04-447 revised 47 CFR 0.408 in its entirety.

1. Section 3507(a)(3) of the Paperwork Reduction Act of 1995, 44 U.S.C. 3507(a)(3), requires agencies to display a current control number assigned by the Director, Office of Management and Budget (“OMB”) for each agency information collection requirement.

2. Section 0.408 of the Commission's rules displays the OMB control numbers assigned to the Commission's public information collection requirements that have been reviewed and approved by OMB.

3. Authority for this action is contained in Section 4(i) of the Communications Act of 1934 (47 U.S.C. 154(i)), as amended, and section 0.231(b) of the Commission's Rules. Since this amendment is a matter of agency organization procedure or practice, the notice and comment and effective date provisions of the Administrative Procedure Act do not apply. See 5 U.S.C. 553(b)(A)(d). For this reason, this rulemaking is not subject to the Congressional Review Act and will not be reported to Congress and the General Accounting Office.

4. Accordingly, it is ordered, that section 0.408 of the rules is revised as set forth in the revised text effective on March 25, 2004.

5. Persons having questions on this matter should contact Judith B. Herman at (202) 418-0214 or via the Internet to Judith-B.Herman@fcc.gov.

List of Subjects in 47 CFR Part 0

Reporting, recordkeeping and third party disclosure requirements.

Federal Communications Commission.
Marlene H. Dortch,
Secretary.

For the reasons discussed in the preamble, the Federal Communications Commission amends 47 CFR part 0 as follows:

PART 0—COMMISSION ORGANIZATION

1. The authority citation for Part 0 continues to read:

Authority: Secs. 4, 303, 48 Stat. 1066, 1082, as revised; 47 U.S.C. 154, 303 unless otherwise noted.

2. Section 0.408 is revised to read as follows:

§ 0.408 OMB control numbers and expiration dates assigned pursuant to the Paperwork Reduction Act of 1995.

(a) Purpose. This section displays the control numbers and expiration dates for the Commission information collection requirements assigned by the Office of Management and Budget (“OMB”) pursuant to the Paperwork Reduction Act of 1995, Pub. L. 104-13. The Commission intends that this section comply with the requirement that agencies display current control numbers and expiration dates assigned by the Director, OMB, for each approved information collection requirement. Not withstanding any other provisions of law, no person shall be subject to any penalty for failing to comply with a collection of information subject to the Paperwork Reduction Act (PRA) that does not display a valid control number. Questions concerning the OMB control numbers and expiration dates should be directed to the Associate Managing Director—Performance Evaluation and Records Management, (“AMD-PERM”), Federal Communications Commission, Washington, DC 20554.

(b) Display

OMB control No. | FCC form number or 47 CFR section or part, docket number or title identifying the collection | OMB expiration date
3060-0004 | Guidelines for Evaluating the Environmental Effects of Radiofrequency Radiation, ET Docket No. 93-62 | 09/30/04.
3060-0009 | FCC 316 | 12/31/05.
3060-0010 | FCC 323 | 02/28/06.
3060-0012 | FCC 701 | 10/31/05.
3060-0016 | FCC 346 | 04/30/04.
3060-0017 | FCC 347 | 06/30/06.
3060-0024 | Sec. 76.29 | 09/30/04.
3060-0027 | FCC 301 | Pending OMB approval.
3060-0029 | FCC 302-TV | 06/30/04.
3060-0031 | FCC 314 | Pending OMB approval.
3060-0032 | FCC 315 | Pending OMB approval.
3060-0034 | FCC 340 | 04/30/04.
3060-0053 | FCC 703 | 02/28/05.
3060-0055 | FCC 327 | 11/30/06.
3060-0056 | Part 68—Connection of Terminal Equipment to the Telephone Network | 12/31/04.
3060-0057 | FCC 731 and Secs. 2.911, 2.925, 2.932, 2.944, 2.960, 2.1033(a) and 2.1043 | 02/28/05.
3060-0059 | FCC 740 | 12/31/06.
3060-0061 | FCC 325 | 12/31/05.
3060-0062 | FCC 330 | 02/28/05.
3060-0065 | FCC 442 | 04/30/05.
3060-0066 | FCC 330-R | 06/30/06.
3060-0068 | FCC 702 | 05/31/05.
3060-0072 | FCC 409 | 10/31/05.
3060-0075 | FCC 345 | 10/31/05.
3060-0076 | FCC 395 | 02/28/06.
3060-0084 | FCC 323-E | 07/31/05.
3060-0093 | FCC 405 | 01/31/07.
3060-0095 | FCC 395-A | Pending OMB approval.
3060-0105 | FCC 430 | 11/30/06.
3060-0106 | Sec. 43.61 | 03/31/06.
3060-0110 | FCC 303-S | 12/31/06.
3060-0113 | FCC 396 | 12/31/06.
3060-0120 | FCC 396-A | 12/31/06.
3060-0126 | Sec. 73.1820 | 10/31/05.
3060-0132 | FCC 1068-A | 03/31/07.
3060-0139 | FCC 854 and 854-R | 10/31/05.
3060-0147 | Sec. 64.804 | 02/28/06.
3060-0149 | Part 63, Section 214, Secs. 63.01-63.601 | 05/31/05.
3060-0157 | Sec. 73.99 | 05/31/06.
3060-0161 | Sec. 73.61 | 06/30/06.
3060-0166 | Part 42 | 08/31/04.
3060-0168 | Sec. 43.43 | 09/30/06.
3060-0169 | Secs. 43.51 and 43.53 | 06/30/05.
3060-0170 | Sec. 73.1030 | 03/31/05.
3060-0171 | Sec. 73.1125 | 10/31/04.
3060-0173 | Sec. 73.1207 | 07/31/04.
3060-0174 | Sec. 73.1212 | 09/30/05.
3060-0175 | Sec. 73.1250 | 08/31/05.
3060-0176 | Sec. 73.1510 | 04/30/06.
3060-0178 | Sec. 73.1560 | 04/30/06.
3060-0179 | Sec. 73.1590 | 07/31/04.
3060-0180 | Sec. 73.1610 | 02/28/05.
3060-0181 | Sec. 73.1615 | 04/30/06.
3060-0182 | Sec. 73.1620 | 04/30/04.
3060-0184 | Sec. 73.1740 | 12/31/04.
3060-0185 | Sec. 73.3613 | 10/31/05.
3060-0187 | Sec. 73.3594 | Pending OMB approval.
3060-0188 | FCC 380 | 08/31/04.
3060-0190 | Sec. 73.3544 | Pending OMB approval.
3060-0192 | Sec. 87.103 | 04/30/04.
3060-0194 | Sec. 74.21 | 11/30/04.
3060-0202 | Sec. 87.37 | 10/31/06.
3060-0204 | Sec. 90.20(a)(2)(v) | 07/31/05.
3060-0206 | Part 21 | 07/31/04.
3060-0207 | Part 11 | 01/31/06.
3060-0208 | Sec. 73.1870 | 08/31/06.
3060-0211 | Sec. 73.1943 | 09/30/04.
3060-0212 | Sec. 73.2080 | 12/31/06.
3060-0213 | Sec. 73.3525 | Pending OMB approval.
3060-0214 | Sec. 73.3526 | 12/31/05.
3060-0215 | Sec. 73.3527 | 04/30/05.
3060-0216 | Sec. 73.3538 | 01/30/05.
3060-0219 | Sec. 90.20(a)(2)(xi) | 11/30/05.
3060-0221 | Sec. 90.155 | 11/30/04.
3060-0222 | Sec. 97.213 | 10/31/06.
3060-0223 | Sec. 90.129 | 07/31/05.
3060-0228 | Sec. 80.59 | 07/31/04.
3060-0233 | Part 36 | 09/30/06.
3060-0236 | Sec. 74.703 | 06/30/05.
3060-0240 | Equipment Changes | 05/31/06.
3060-0241 | Temporary Authorizations | 04/30/06.
3060-0242 | Sec. 74.604 | 02/28/06.
3060-0248 | Sec. 74.751 | 06/30/05.
3060-0249 | Sec. 74.781 | 10/31/06.
3060-0250 | Sec. 74.784 | 05/31/06.
3060-0259 | Sec. 90.263 | 10/31/06.
3060-0261 | Sec. 90.215 | 04/30/04.
3060-0262 | Sec. 90.179 | 01/31/05.
3060-0264 | Sec. 80.413 | 10/31/06.
3060-0265 | Sec. 80.868 | 07/31/04.
3060-0270 | Sec. 90.443 | 01/31/07.
3060-0281 | Sec. 90.651 | 05/31/04.
3060-0286 | Sec. 80.302 | 04/30/04.
3060-0287 | Sec. 78.69 | 01/31/05.
3060-0288 | Sec. 78.33 | 04/30/06.
3060-0289 | Secs. 76.1705 and 76.601 | 05/31/05.
3060-0290 | Sec. 90.517 | 05/31/05.
3060-0291 | Sec. 90.477(a), (b)(2), and (d)(2) | 05/31/05.
3060-0292 | Part 69 | 01/31/07.
3060-0295 | Secs. 90.607(b)(1) and (c)(1) | Pending OMB approval.
3060-0297 | Sec. 80.503 | 10/31/06.
3060-0298 | Part 61 | 02/28/05.
3060-0307 | Amendment of Part 90 of the Commission's Rules to Facilitate Future Development of SMR Systems in the 800 MHz Frequency Band | 10/31/06.
3060-0308 | Sec. 90.505 | 04/30/04.
3060-0309 | Sec. 74.1281 | 10/31/05.
3060-0310 | FCC 322 | 12/31/06.
3060-0311 | Sec. 76.54 | 12/31/05.
3060-0313 | Sec. 76.1701 | 09/30/04.
3060-0315 | Sec. 76.1615 and 76.1715 | 12/31/05.
3060-0316 | Sec. 76.1700 | 10/31/04.
3060-0320 | Sec. 73.1350 | 04/30/04.
3060-0325 | Sec. 80.605 | 06/30/05.
3060-0329 | Sec. 2.955 | 10/31/05.
3060-0331 | FCC 321 | 12/31/06.
3060-0332 | Secs. 76.614 and 76.1706 | 10/31/04.
3060-0340 | Sec. 73.51 | 03/31/07.
3060-0341 | Sec. 73.1680 | 12/31/06.
3060-0342 | Sec. 74.1284 | 12/31/06.
3060-0346 | Sec. 78.27 | Pending OMB approval.
3060-0347 | Sec. 97.311 | 02/28/06.
3060-0349 | Equal Employment Opportunity Requirements | 12/31/06.
3060-0355 | FCC 492 and FCC 492A | 07/31/04.
3060-0357 | Request for Designation as a Recognized Private Operating Agency | 11/31/04.
3060-0360 | Sec. 80.409(c) | 08/31/04.
3060-0364 | Secs. 80.409(d) and (e) | 08/31/04.
3060-0368 | Sec. 97.523 | 06/30/05.
3060-0370 | Part 32 | 10/31/05.
3060-0374 | Sec. 73.1690 | 12/31/04.
3060-0384 | Secs. 64.904 and 64.905 | 03/31/05.
3060-0386 | Sec. 73.1635 | 07/31/05.
3060-0387 | Sec 15.201(d) | 03/31/06.
3060-0390 | FCC 395-B | Pending OMB approval.
3060-0391 | Program to Monitor the Impact of Universal Service Support Mechanisms, CC Docket Nos. 98-202 and 96-45 | 02/28/05.
3060-0392 | 47 CFR Part 1, Subpart J, Pole Attachment Complaint Procedures | 01/31/07.
3060-0394 | Sec. 1.420 | 10/31/05.
3060-0395 | FCC Reports 43-02, FCC 43-05 and FCC 43-07 | Pending OMB approval.
3060-0397 | Sec. 15.7(a) | 12/31/06.
3060-0398 | Secs. 2.948 and 15.117(g)(2) | 04/30/06.
3060-0400 | Tariff Review Plan | 05/31/06.
3060-0404 | FCC 350 | 05/31/05.
3060-0405 | FCC 349 | Pending OMB approval.
3060-0407 | Sec. 73.3598 | 05/31/05.
3060-0410 | FCC 495A and FCC 495B | Pending OMB approval.
3060-0411 | FCC 485 | 06/30/04.
3060-0414 | Terrain Shielding Policy | Pending OMB approval.
3060-0419 | Secs. 76.94, 76.95, 76.105, 76.106, 76.107, 76.109 and 76.1609 | 05/31/05.
3060-0422 | Sec. 68.5 | 10/31/04.
3060-0423 | Sec. 73.3588 | 10/31/05.
3060-0427 | Sec. 73.3523 | 02/28/07.
3060-0430 | Sec. 1.1206 | 04/30/05.
3060-0433 | FCC 320 | 05/31/05.
3060-0434 | Sec. 90.20(e)(6) | 05/31/05.
3060-0435 | Sec. 80.361 | 11/30/05.
3060-0436 | Equipment Authorization, Cordless Telephone Security Coding | 03/31/06.
3060-0439 | Sec. 64.201 | Pending OMB approval.
3060-0441 | Sec. 90.621(b)(4) | 10/31/06.
3060-0449 | Sec. 1.65(c) | 12/31/04.
3060-0452 | Sec. 73.3589 | 10/31/05.
3060-0454 | Regulation of International Accounting Rates | 05/31/06.
3060-0463 | Telecommunications Relay Services and the Americans with Disabilities Act of 1990, 47 CFR Part 64, Sec. 64.604(a)(3) | 06/30/06.
3060-0465 | Sec. 74.985 | 01/31/07.
3060-0466 | Sec. 74.1283 | 05/31/06.
3060-0470 | Secs. 64.901-64.903, Allocation of Cost, Cost Allocation Manual, RAO Letters 19 and 26 | 03/31/05.
3060-0473 | Sec. 74.1251 | 02/28/06.
3060-0474 | Sec. 74.1263 | 05/31/06.
3060-0483 | Sec. 73.687 | 12/31/06.
3060-0484 | Sec. 63.100 | 04/30/05.
3060-0489 | Sec. 73.37 | Pending OMB approval.
3060-0490 | Sec. 74.902 | Pending OMB approval.
3060-0491 | Sec. 74.991 | Pending OMB approval.
3060-0492 | Sec. 74.992 | 04/30/04.
3060-0493 | Sec. 74.986 | 04/30/04.
3060-0494 | Sec. 74.990 | 04/30/04.
3060-0496 | FCC Report 43-08 | 03/31/07.
3060-0500 | Sec. 76.1713 | 09/30/04.
3060-0501 | Secs. 76.206 | 09/30/04.
3060-0502 | Sec. 73.1942 | 09/30/04.
3060-0506 | FCC 302-FM | 06/30/06.
3060-0508 | Rewrite of Part 22 | 08/31/04.
3060-0511 | FCC Report 43-04 | Pending OMB approval.
3060-0512 | FCC Report 43-01 | Pending OMB approval.
3060-0513 | FCC Report 43-03 | 03/31/07.
3060-0514 | Sec. 43.21(b) | 05/31/06.
3060-0515 | Sec. 43.21(c) | 10/31/05.
3060-0519 | Rules and Regulations Implementing the Telephone Consumer Protection Act of 1991, CG Docket No. 02-278 | 09/30/06.
3060-0526 | Density Pricing Zone Plans, Expanded Interconnection with Local Telephone Company Facilities, CC Docket No. 91-141 | 10/31/05.
3060-0531 | Local Multipoint Distribution Service (LMDS) | 01/31/07.
3060-0532 | Secs. 2.1033(b)(10) and 15.121 | 12/31/05.
3060-0537 | Sec. 13.217 | 05/31/05.
3060-0540 | Tariff Filing Requirements For Nondominant Common Carriers | 09/30/05.
3060-0543 | Sec. 21.913 | 11/30/05.
3060-0544 | Sec. 76.701 | Pending OMB approval.
3060-0546 | Definition of Markets for Purposes of the Cable Television Mandatory Television Broadcast Signal Carriage Rules | 04/30/06.
3060-0548 | Secs. 76.1708, 76.1709, 76.1620, 76.56, and 76.1614 | 05/31/05.
3060-0550 | FCC 328 | 01/31/06.
3060-0551 | Secs. 76.1002 and 76.1004 | 03/31/07.
3050-0554 | Sec. 87.199 | 06/30/05.
3060-0556 | Sec. 80.1061 | 07/31/05.
3060-0560 | Sec. 76.911 | 09/30/04.
3060-0561 | Sec. 76.913 | 01/31/07.
3060-0562 | Sec. 76.916 | 07/31/04.
3060-0564 | Sec. 76.924 | 04/30/06.
3060-0567 | Sec. 76.962 | 03/31/05.
3060-0568 | Commercial Leased Access Rates, Terms, & Conditions | 10/31/06.
3060-0569 | Sec. 76.975 | 10/31/06.
3060-0570 | Sec. 76.982 | 07/31/04.
3060-0572 | Filing Manual for Annual International Circuit Status Reports | 10/31/05.
3060-0573 | FCC 394 | 06/30/06.
3060-0580 | Sec. 76.504 and 76.1710 | 12/31/06.
3060-0581 | Sec. 76.503 | 11/30/06.
3060-0584 | FCC 44 and FCC 45 | 01/31/06.
3060-0589 | FCC 159 and FCC 159-C | 06/30/06.
3060-0594 | FCC 1220 | 06/30/04.
3060-0595 | FCC 1210 | 09/30/04.
3060-0599 | Implementation of Sections 3(n) and 332 of the Communications Act | 01/31/07.
3060-0600 | FCC 175 | 04/30/04.
3060-0601 | FCC 1200 | 06/30/04.
3060-0602 | Sec. 76.917 | 06/30/06.
3060-0607 | Sec. 76.922 | 01/31/07.
3060-0609 | Sec. 76.934(e) | 07/31/04.
3060-0610 | Sec. 76.1606 | 07/31/04.
3060-0611 | Sec. 74.783 | 12/31/06.
3060-0613 | Expanded Interconnection with Local Telephone Company Facilities, CC Docket No. 91-141, Transport Phase II | 07/31/06.
3060-0621 | Rules and Requirements for C & F Block Broadband PCS Licenses | 04/30/04.
3060-0624 | Sec. 24.103(f) | 04/30/04.
3060-0625 | Amendment of the Commission's Rules to Establish New Personal Communications Services under Part 24 | Pending OMB approval.
3060-0626 | Regulatory Treatment of Mobile Services | 08/31/04.
3060-0627 | FCC 302-AM | 06/30/06.
3060-0629 | Sec. 76.1605 | 07/31/04.
3060-0633 | Secs. 73.1230, 74.165, 74.432, 74.564, 74.664, 74.765, 74.832, 74.965 and 74.1265 | 08/31/04.
3060-0634 | Sec. 73.691 | 04/30/04.
3060-0636 | Equipment Authorization—Declaration of Compliance—Parts 2 and 15 | 03/31/06.
3060-0638 | Sec. 76.934(g) | 05/31/05.
3060-0644 | FCC 1230 | 05/31/05.
3060-0645 | Sec. 17.4 | 09/30/05.
3060-0647 | Annual Survey of Cable Industry Prices | 11/30/06.
3060-0648 | Sec. 21.902 | 02/28/06.
3060-0649 | Secs. 76.1601, 76.1607, 76.1617, and 76.1708 | 02/28/05.
3060-0652 | Secs. 76.309, 76.1602, 76.1603, and 76.1619 | 12/31/04.
3060-0653 | Secs. 64.703(b) and (c) | 02/28/05.
3060-0654 | FCC 304 | 10/31/04.
3060-0655 | Request for Waivers of Regulatory and Application Fees Predicated on Allegations of Financial Hardship | 09/30/04.
3060-0656 | FCC 175-M | 12/31/04.
3060-0657 | Sec. 21.956 | 09/30/04.
3060-0658 | Sec. 21.960 | 12/31/04.
3060-0660 | Sec. 21.937 | 09/30/04.
3060-0661 | Sec. 21.931 | 10/31/04.
3060-0662 | Sec. 21.930 | 09/30/04.
3060-0663 | Sec. 21.934 | 11/30/05.
3060-0664 | FCC 304-A | 10/31/04.
3060-0665 | Sec. 64.707 | 12/31/04.
3060-0667 | Secs. 76.630, 76.1621, and 76.1622 | 12/31/04.
3060-0668 | Sec. 76.936 | 03/31/05.
3060-0669 | Sec. 76.946 | 06/30/05.
3060-0673 | Sec. 76.956 | 03/31/05.
3060-0674 | Sec. 76.1618 | 09/30/05.
3060-0678 | FCC 312, FCC 312-EZ, FCC 312-R, and FCC 312 Schedules | 12/31/06.
3060-0681 | Toll-Free Service Access Codes, Part 52, Subpart D, Secs. 52.101-52.111 | 12/31/06.
3060-0684 | Amendment to the Commission's Rules Regarding a Plan for Sharing the Costs of Microwave Relocation, WT Docket No. 95-157 | Pending OMB approval.
3060-0685 | FCC 1240 | 08/31/04.
3060-0686 | Streamlining the International Section 214 Authorization Process and Tariff Requirements | Pending OMB approval.
3060-0687 | Access to Telecommunications Equipment and Services by Persons with Disabilities, CC Docket No. 87-124 | 10/31/05.
3060-0688 | FCC 1235 | 12/31/04.
3060-0690 | Rules Regarding the 37.0-38.6 GHz and 38.6-40.0 GHz Bands | 02/28/06.
3060-0691 | Amendment of Parts 2 and 90 of the Commission's Rules to Provide for the Use of 200 Channels Outside the Designated Filing Areas in the 896-901 MHz Bands Allotted to Specialized Mobile Radio Service | 04/30/04.
3060-0692 | Home Wiring Provisions | Pending OMB approval.
3060-0695 | Sec. 87.219 | 07/31/05.
3060-0697 | Parts 22 and 90 to Facilitate Future Development of Paging Systems | Pending OMB approval.
3060-0698 | Amendment of the Commission's Rules to Establish a Radio Astronomy Coordination Zone in Puerto Rico, ET Docket No. 96-2 | 05/31/04.
3060-0700 | FCC 1275 | Pending OMB approval.
3060-0702 | Amendment to Parts 20 and 24 of the Commission's Rules, Broadband PCS Competitive Bidding and the Commercial Mobile Radio Service Spectrum Cap | Pending OMB approval.
3060-0703 | FCC 1205 | 04/30/06.
3060-0704 | Policy and Rules Concerning the Interstate, Interexchange Marketplace; Implementation of Section 254(g) of the Communications Act of 1934, as amended, CC Docket No. 96-6 | 12/31/05.
3060-0706 | Cable Act Reform | 10/31/05.
3060-0707 | Over-the-Air Reception Devices (OTARD) | 09/30/05.
3060-0710 | Policy and Rules Concerning the Implementation of the Local Competition Provisions in the Telecommunications Act of 1996—CC Docket No.96-98 | 10/31/06.
3060-0711 | Implementation of Section 34(a)(1) of the Public Utility Holding Company Act of 1935, as amended by the Telecommunications Act of 1996, Secs. 1.5001 through 1.5007 | 12/31/06.
3060-0713 | Alternative Broadcast Inspection Program (ABIP) Compliance Notification | 09/30/05.
3060-0715 | Telecommunications Carriers' Use of Customer Proprietary Network Information (CPNI) and Other Customer Information—CC Docket No. 96-115 | 02/28/06.
3060-0716 | Blanketing Interference | 11/30/06.
3060-0717 | Billed Party Preference for InterLATA 0+ Calls, Secs. 64.703(a), 64.709, and 64.710 | 07/31/04.
3060-0718 | Part 101 Governing the Terrestrial Microwave Radio Service | 03/31/06.
3060-0719 | Quarterly Report of IntraLATA Carriers Listing Pay Phone Automatic Number Identifications (ANIs) | 12/31/06.
3060-0723 | Public Disclosure of Network Information by Bell Operating Companies | 12/31/06.
3060-0725 | Quarterly Filing of Nondiscrimination Reports (on Quality of Service, Installation, and Maintenance) by Bell Operating Companies (BOC's) | 09/30/06.
3060-0726 | Quarterly Report of Interexchange Carriers Listing the Number of Dial-Around Calls for Which Compensation is Being Paid to Pay Phone Owners | 09/30/06.
3060-0727 | Sec. 73.213 | Pending OMB approval.
3060-0734 | Accounting Safeguards, 47 U.S.C. Sections 260, 271-276, and 47 CFR Secs. 53.209, 53.211 and 53.213, SEC Form 10-K | 03/31/05.
3060-0736 | Implementation of the Non-Accounting Safeguards of Sections 271 and 272 of the Communications Act of 1934, as amended—CC Docket No. 96-149 | 08/31/04.
3060-0737 | Disclosure Requirements for Information Services Provided Under a Presubscription or Comparable Arrangement | 05/31/06.
3060-0740 | Sec. 95.1015 | 01/31/06.
3060-0741 | Implementation of the Local Competition Provisions on the Telecommunications Act of 1996—CC Docket No. 96-98 | 04/30/04.
3060-0742 | Telephone Number Portability, Part 52, Subpart C, Secs. 52.21-52.33 | 08/31/05.
3060-0743 | Implementation of the Pay Telephone Reclassification and Compensation Provisions of the Telecommunications Act of 1996—CC Docket No. 96-128 | 01/31/07.
3060-0745 | Implementation of the Local Exchange Carrier Tariff Streamlining Provisions of the Telecommunications Act of 1996, CC Docket No. 96-187 | 12/31/06.
3060-0748 | Disclosure Requirements for Information Services Provided through Toll-Free Numbers, Sec. 64.1504 | 11/30/06.
3060-0749 | Sec. 64.1509 | 11/30/06.
3060-0750 | Sec. 73.673 | 07/31/06.
3060-0751 | Reports Concerning International Private Lines Interconnected to the U.S. Public Switched Network | 05/31/06.
3060-0752 | Billing Disclosure Requirements for Pay-Per-Call and Other Information Services, Sec. 64.1510 | 11/30/06.
3060-0754 | FCC 398 | 06/30/04.
3060-0755 | Infrastructure Sharing, Secs. 59.1-59.4 | 05/31/06.
3060-0756 | Procedural Requirements and Policies for Commission Processing of Bell Operating Company (BOC) Applications for the Provision of In-Region, InterLATA Services under Section 271 of the Telecommunications Act of 1996 | 01/31/05.
3060-0757 | FCC Auctions Customer Survey | 01/31/07.
3060-0758 | Amendment of Part 5 of the Commission's Rules to Revise the Experimental Radio Service Regulations, ET Docket No. 92-256 | 12/31/06.
3060-0760 | Access Charge Reform, CC Docket No. 96-262 | 12/31/05.
3060-0761 | Closed Captioning of Video Programming | Pending OMB approval.
3060-0763 | FCC Report 43-06 | 04/30/06.
3060-0765 | Revision of Parts 22 and 90 of the Commission's Rules to Facilitate Future Development of Paging Systems | Pending OMB approval.
3060-0767 | Auction Forms and License Transfer Disclosures—Supplement for the 2nd R&O, Order on Reconsideration, and 5th NPRM in CC Docket No. 92-297 | 11/30/06.
3060-0768 | 28 GHz Band Segmentation Plan Amending the Commission's Rules to Redesignate the 27.5-29.5 GHz Frequency Band, to Reallocate the 29.5-30.0 GHz Frequency Band, and to Establish Rules and Policies for Local Multipoint Distribution Services and for the Fixed Satellite Service | 06/30/06.
3060-0770 | Price Cap Performance Review for Local Exchange Carriers—CC Docket No. 94-1 (New Services) | 12/31/05.
3060-0771 | Sec. 5.61, Procedure for Obtaining a Special Temporary Authorization in the Experimental Radio Service | Pending OMB approval.
3060-0773 | Sec. 2.803, Marketing of RF Devices Prior to Equipment Authorization | 12/31/06.
3060-0774 | Federal-State Joint Board on Universal Service—CC Docket No. 96-45, Secs. 36.611 and 36.612 and 47 CFR Part 54 | 06/30/04.
3060-0775 | Secs. 64.1901—64.1903 | 12/31/06.
3060-0779 | Amendment to Part 90 of the Commission's Rules to Provide for Use of the 220-222 MHz Band by the Private Land Mobile Radio Service, PR Docket No. 89-552 | 04/30/04.
3060-0780 | Uniform Rate-Setting Methodology | Pending OMB approval.
3060-0782 | Petition for Limited Modification of LATA Boundaries to Provide Expanded Local Calling Service (ELCS) at Various Locations | 01/31/07.
3060-0783 | Sec. 90.176 | 12/31/05.
3060-0786 | Petitions for LATA Association Changes by Independent Telephone Companies | 01/31/07.
3060-0787 | Implementation of the Subscriber Carrier Selection Changes Provisions of the Telecommunications Act of 1996; Policies and Rules Concerning Unauthorized Changes of Consumers Long Distance, FCC 478 | 04/30/04.
3060-0788 | DTV Showings/Interference Agreements | 09/30/04.
3060-0789 | Modified Alternative Plan, CC Docket No. 90-571 | 05/31/04.
3060-0790 | Sec. 68.110(c) | 11/30/06.
3060-0791 | Accounting for Judgments and Other Costs Associated with Litigation, CC Docket No. 93-240 | 11/30/06.
3060-0793 | Federal-State Joint Board on Universal Service, CC Docket No. 96-45, Procedures for Self-Certifying as a Rural Carrier | 10/31/05.
3060-0795 | Associate WTB Call Signs and Antenna Registration Numbers with Licensee's FRN and FCC 606 | 07/31/05.
3060-0798 | FCC 601 | Pending OMB approval.
3060-0799 | FCC 602 | 03/31/05.
3060-0800 | FCC 603 | 04/30/05.
3060-0804 | Health Care Providers Universal Service Program—FCC 465, FCC 466, FCC 466-A, and FCC 467 | Pending OMB approval.
3060-0805 | Secs. 90.523, 90.527, and 90.545 | 02/28/05.
3060-0806 | Universal Service, Schools and Libraries Program, FCC 470 and 471 | 03/31/06.
3060-0807 | Sec. 51.803 and Supplemental Procedures for Petitions to Section 252(e)(5) of the Communications Act of 1934, as amended | 04/30/04.
3060-0809 | Communications Assistance for Law Enforcement Act (CALEA) | 08/31/06.
3060-0810 | Procedures for Designation of Eligible Telecommunications Carriers Pursuant to Section 214(e)(6) of the Communications Act of 1934, as amended | 05/31/06.
3060-0812 | Exemption from Payment of Regulatory Fees When Claiming Non-Profit Status | 10/31/05.
3060-0813 | Revision of the Commission's Rules to Ensure Compatibility with Enhanced 911 Calling Systems | 06/30/05.
3060-0814 | Sec. 54.301 | 03/31/05.
3060-0816 | Local Competition and Broadband Reporting, CC Docket No. 99-301, FCC 477 | 01/31/07.
3060-0817 | Computer III Further Remand Proceedings: BOC Provision of Enhanced Services (ONA Requirements), CC Docket No. 95-20 | 09/30/06.
3060-0819 | Lifeline Assistance (Lifeline) Connection Assistance (Link-Up) Reporting Worksheet and Instructions, 47 CFR 54.400-54.417, FCC 497 | 12/31/06.
3060-0823 | Pay Telephone Reclassification, Memorandum Opinion and Order, CC Docket No. 96-128 | 02/28/05.
3060-0824 | FCC 498 | 07/31/06.
3060-0833 | Implementation of Section 255 of the Telecommunications Act of 1996: Complaint Filings/Designation of Agents | 10/31/04.
3060-0835 | Ship Inspections, FCC 806, FCC 824, FCC 827 and FCC 829 | 03/31/06.
3060-0837 | FCC 302-DTV | 02/28/05.
3060-0841 | Public Notice, Additional Processing Guidelines for DTV (nonchecklist applications) | 04/30/05.
3060-0844 | Carriage of the Transmissions of Digital Television Broadcast Stations | 09/30/04.
3060-0848 | Deployment of Wireline Services Offering Advanced Telecommunications Capability—CC Docket No. 98-147 | 03/31/06.
3060-0849 | Commercial Availability of Navigation Devices, CS Docket No. 97-80 | Pending OMB approval.
3060-0850 | FCC 605 | 06/30/06.
3060-0851 | FCC 305 | 12/31/04.
3060-0852 | FCC 306 | 12/31/04.
3060-0853 | FCC 479, FCC 486, and FCC 486-T | 01/31/07.
3060-0854 | Truth-in-Billing Format, CC Docket No. 98-170 | Pending OMB approval.
3060-0855 | FCC 499, FCC 499-A, and FCC 499-Q | Pending OMB approval.
3060-0856 | FCC 472, FCC 473, and FCC 474 | 01/31/07.
3060-0859 | Suggested Guidelines for Petitions for Ruling under Section 253 of the Communications Act | 06/30/06.
3060-0862 | Handling Confidential Information | 06/30/05.
3060-0863 | Satellite Delivery of Network Signals to Unserved Households for Purposes of the Satellite Home Viewer Act | 01/31/06.
3060-0865 | Wireless Telecommunications Bureau Universal Licensing System Recordkeeping and Third-Party Disclosure Requirements | Pending OMB approval.
3060-0874 | FCC 475 | 10/31/04.
3060-0876 | USAC Board of Directors Nomination Process, Sec. 54.703 and Review of Administrator's Decision, Secs. 54.719-54.725 | 06/30/06.
3060-0881 | Sec. 95.861 | 07/31/05.
3060-0882 | Sec. 95.833 | 07/31/05.
3060-0886 | Sec. 73.3534 | 05/31/05.
3060-0888 | Part 76, Cable Television Service Pleading and Complaint Rules | 10/31/05.
3060-0891 | FCC 330-A | 07/31/05.
3060-0893 | Universal Licensing Service (ULS) Pre-Auction Database Corrections | 02/28/07.
3060-0894 | Certification Letter Accounting for Receipt of Federal Support, CC Docket Nos. 96-45 and 96-262 | 05/31/06.
3060-0895 | Numbering Resource Optimization, FCC 502 | Pending OMB approval.
3060-0896 | Broadcast Auction Form Exhibits | 09/30/05.
3060-0897 | MDS and ITFS Two-Way Transmissions | 04/30/04.
3060-0900 | Compatibility of Wireless Services with Enhanced 911—CC Docket No. 94-102 | 12/31/05.
3060-0901 | Reports of Common Carriers and Affiliates | 06/30/06.
3060-0905 | Regulations for RF Lighting Devices, Secs. 18.213 and 18.307, ET Docket No. 98-42 | 11/30/05.
3060-0906 | FCC 317 | 07/31/06.
3060-0910 | Revision of the Commission's Rules to Ensure Compatibility with Enhanced 911 Emergency Calling Systems, Third Report and Order in CC Docket No. 94-102 | 05/31/06.
3060-0912 | Cable Attribution Rules | 10/31/06.
3060-0914 | Petition, Pursuant to Section 7 of the Act, for a Waiver of the Airborne Cellular Rule, or in the Alternative, for a Declaratory Ruling | 04/30/04.
3060-0916 | Sec. 95.1402 | 04/30/06.
3060-0917 | FCC 160 | 10/31/06.
3060-0918 | FCC 161 | 10/31/06.
3060-0919 | FCC 162 | 10/31/06.
3060-0920 | FCC 318 | 03/31/05.
3060-0921 | Petitions for LATA Boundary Modification for the Deployment of Advanced Services | 10/31/06.
3060-0922 | FCC 397 | 11/30/06.
3060-0924 | Creation of Low Power Radio Service, MM Docket No. 99-25 | 11/30/06.
3060-0926 | Transfer of the Bands from Federal Government Use: NPRM | 04/30/04.
3060-0927 | Auditor's Annual Independence and Objectivity Certification | 05/31/06.
3060-0928 | FCC 302-CA | 02/28/07.
3060-0929 | FCC 331 | Pending OMB approval.
3060-0930 | Implementation of the Satellite Home Viewer Improvement Act (SHVIA) of 1999; Enforcement Procedures for Retransmission Consent Violations Conforming to Section 325(e) of the Communications Act of 1934, as amended | 06/30/06.
3060-0931 | Maritime Mobile Service Identity (MMSI) | 06/30/06.
3060-0932 | FCC 301-CA | 02/28/07.
3060-0933 | FCC 460 | 11/30/06.
3060-0934 | Secs. 2.925, 2.932, 2.944, 2.960, 2.962, 2.1043, 68.160 and 68.162 and FCC 731-TC | 02/28/05.
3060-0936 | Sec. 95.1215, Disclosure Policies;Sec. 95.1217, Labeling Requirements | 09/30/06.
3060-0937 | Establishment of a Class A Television Service, MM Docket No. 00-10 | 04/30/04.
3060-0938 | FCC 319 | 10/31/06.
3060-0939 | E911 Second Memorandum Opinion and Order | 05/31/04.
3060-0942 | Access Charge Reform, Price Cap Performance Review for Local Exchange Carriers, Low-Volume Long Distance Users, Federal-State Joint Board on Universal Service | 03/31/07.
3060-0943 | Sec. 54.809 | 12/31/06.
3060-0944 | Review of Commission Consideration of Applications Under the Cable Landing License Act | 02/28/05.
3060-0945 | Sec. 79.2 | 01/31/07.
3060-0947 | Sec. 101.1327 | 02/28/07
3060-0948 | Noncommercial Educational Applicants | Pending OMB approval.
3060-0949 | FCC 159-W | 10/31/06.
3060-0950 | Extending Wireless Telecommunications Services Tribal Lands, WT Docket No. 99-266 | 04/30/04.
3060-0951 | Service of Petitions for Preemption, 47 CFR Sec. 1.1204(b) Note, and Sec. 1.1206(a) Note 1 | 01/31/07.
3060-0952 | Proposed Demographic Information and Notifications | 01/31/07.
3060-0953 | Wireless Medical Telemetry Service, ET Docket No. 99-255 | Pending OMB approval.
3060-0954 | Implementation of the 911 Act | 07/31/05.
3060-0955 | 2 GHz Mobile Satellite Service Reports | 02/28/07.
3060-0957 | Wireless Enhanced 911 Service, Fourth Memorandum Opinion and Order | 05/31/04.
3060-0959 | Compatibility Between Cable Systems and Consumer Electronics Equipment | 05/31/04.
3060-0960 | Application of Network Non-Duplication, Syndicated Exclusivity, and Sports Blackout Rules to Satellite Retransmissions of Broadcast Signals | 03/31/06.
3060-0962 | Redesignation of the 18 GHz Frequency Band, Blanket Licensing of Satellite Earth Stations in the Ka-Band, and the Allocation of Additional Spectrum for Broadcast Satellite Service Use | 02/28/06.
3060-0963 | Sec. 101.527, Construction Requirements for 24 GHz Operations; Sec. 101.529, Renewal Expectancy Criteria for 24 GHz Licensees | 04/30/04.
3060-0966 | Secs. 80.385, 80.475, and 97.303, Automated Marine Telecommunications Service (AMTS) | 04/30/04.
3060-0967 | Sec. 79.2 | 04/30/04.
3060-0968 | FCC 501 | 07/31/04.
3060-0970 | Sec. 90.621(e)(2) | 06/30/04.
3060-0971 | Numbering Resource Optimization | 09/30/04.
3060-0972 | Multi-Association Group (MAG) Plan for Regulation of Interstate Services of Non-Price Cap Incumbent Local Exchange Carriers and Interexchange Carriers | 01/31/07.
3060-0973 | Sec. 64.1120(e) | 11/30/04.
3060-0974 | Proposed Requirements for Secondary Market Transactions, CC Docket No. 99-200 | 04/30/04.
3060-0975 | Promotion of Competitive Networks in Local Telecommunications Markets Multiple Environments (47 CFR Parts 1, 64 and 68) | 05/31/04.
3060-0977 | Procedures for Reviewing Requests for Relief from State and Local Regulations Pursuant to Section 332(c)(7)(B)(v) of the Communications Act of 1934 | 06/30/04.
3060-0978 | Compatibility with E911 Emergency Calling Systems; Fourth Report and Order | 06/30/04.
3060-0979 | Spectrum Audit Letter | 06/30/06.
3060-0980 | Implementation of the Satellite Home Viewer Improvement Act (SHVIA), Carriage Consent Issues, Retransmission Consent Issues, CS Docket Nos. 00-96 and 99-363 | 06/30/04.
3060-0981 | 1998 Biennial Review: Streamlining of Cable Television Services, Part 76, Public File and Notice Requirements | 06/30/04.
3060-0982 | Implementation of Low Power Television (LPTV) Digital Data Services Pilot Project | 10/31/04.
3060-0983 | Standards for Co-Channel and Adjacent Channel Interference in the Land Mobile Radio Service | 07/31/04.
3060-0984 | Secs. 90.35(b)(2) and 90.175(b)(1) | 07/31/04.
3060-0985 | Public Safety, State Interoperability Channels | 07/31/04.
3060-0986 | Federal-State Joint Board on Universal Service, Plan for Reforming the Rural Universal Support Mechanism | 01/31/05.
3060-0987 | 911 Callback Capability: Non-initialized Phones | 06/30/05.
3060-0989 | Procedures for Applicants Requiring Section 214 Authorization for Domestic Interstate Transmission Lines Acquired Through Corporate Control, Secs. 63.01, 63.03 and 63.04 | 11/30/05.
3060-0990 | Proposed Alternatives for the Rural Task Force's Proposal to Freeze High-Cost Loop Support Upon Competitive Entry in the Rural Carrier Study Areas (FNPRM) | 08/31/04.
3060-0991 | AM Measurement Data | 02/28/05.
3060-0992 | Request for Extension of the Implementation Deadline for Non-Recurring Services, CC Docket No. 96-45 and Sec. 54.507(d)(1)-(4) | 12/31/04.
3060-0994 | Flexibility for Delivery of Communications by Mobile Satellite Service Providers in the 2 GHz Band, the L-Band, and the 1.6/2.4 GHz Band | 01/31/07.
3060-0995 | Amendment of Part 1 of the Commission's Rules—Competitive Bidding Procedures, Sec. 1.2105(c)(1) of the Commission's Anti-Collusion Rules | 05/31/05.
3060-0996 | AM Auction Section 307(b) Submissions | 03/31/05.
3060-0997 | Sec. 52.15(k) | 05/31/05.
3060-0998 | Sec. 87.109 | 01/31/05.
3060-0999 | Exemption of Public Mobile Service Phone from the Hearing Aid Compatibility Act: NPRM | 01/31/05.
3060-1000 | Sec. 87.147 | 01/31/05.
3060-1001 | FCC 337 | 05/31/05.
3060-1002 | Cable Horizontal and Vertical Ownership Information Collection | 01/31/06.
3060-1003 | Telecommunications Carrier Emergency Contact Information | 07/31/05.
3060-1004 | Wireless Telecommunications Bureau Standardizes Carrier Reporting on Wireless E911 Implementation | 01/31/07.
3060-1005 | Numbering Resource Optimization—Phase 3 | 06/30/05.
3060-1006 | Phase 3—Further Notice of Proposed Rulemaking (FNPRM) in CC Docket Nos. 00-199 and 97-212, 2000 Biennial Regulatory Review | 05/31/05.
3060-1007 | Streamlining and Other Revision of Part 25 of the Commission's Rules | 01/31/07.
3060-1008 | Reallocation and Service Rules for the 698-746 MHz Band (Television Channels 52-59) | 07/31/05.
3060-1009 | Telecommunications Reporting Worksheet, CC Docket No. 96-45, Report and Order and Second FNPRM | 02/28/06.
3060-1010 | Numbering Resource Optimization—Clarification and Further Notice | 05/31/05.
3060-1011 | Presubscribed Interexchange Carrier (PIC)—Change Charges NPRM, CC Docket No. 02-53 | 05/31/05.
3060-1012 | Schools and Libraries Universal Service Support Mechanism, CC Docket No. 02-6, NPRM, Proposed ADA Certification | 06/30/05.
3060-1013 | Mitigation of Orbital Debris | 06/30/05.
3060-1014 | Ku-Band NGSO FSS | 08/31/06.
3060-1015 | Ultra Wideband Transmission Systems Operating Under Part 15 | 01/31/06.
3060-1021 | Sec. 25.139 | 11/30/05.
3060-1022 | Sec. 101.1403 | 11/30/05.
3060-1023 | Sec. 101.103 | 11/30/05.
3060-1024 | Sec. 101.1413 | 11/30/05.
3060-1025 | Sec. 101.1440 | 11/30/05.
3060-1026 | Sec. 101.1417 | 11/30/05.
3060-1027 | Sec. 27.602 | 01/31/06.
3060-1028 | International Signaling Point Code (ISPC) | 01/31/06.
3060-1029 | Data Network Identification Code (DNIC) | 01/31/06.
3060-1030 | Service Rules for Advanced Wireless Services (AWS) in the 1.7 GHz and 2.1 GHz Bands | 01/31/06.
3060-1031 | Revision of the Commission's Rules to Ensure Compatibility with Enhanced 911 Emergency Calling Systems—Petition of City of Richardson, TX; Order on Reconsideration II | 08/31/06.
3060-1032 | Commercial Availability of Navigation Devices and Compatibility Between Cable Systems and Consumer Electronics Equipment, FNPRM, CS Docket No. 97-80 and PP Docket No. 00-67 | 03/31/07.
3060-1033 | FCC 396-C | Pending OMB approval.
3060-1034 | Digital Audio Broadcasting Systems and Their Impact on the Terrestrial Radio Broadcast Service | Pending OMB approval.
3060-1035 | FCC 309, 310 and 311 | 05/31/06.
3060-1036 | Potential Reporting Requirements on Local Exchange Carriers to Assist Expeditious Implementation of Wireless E911 Service | 05/31/06.
3060-1038 | Digital Television Transition Information Questionnaires | 02/28/07.
3060-1039 | Nationwide Programmatic Agreement Regarding the Section 106 National Historic Preservation Act—Review Process, WT Docket No. 03-128 | 02/28/07.
3060-1040 | Broadcast Ownership Rules, Report and Order in MB Docket No. 02-777 and MM Docket Nos. 02-235, 02-237, and 00-244 | Pending OMB approval.
3060-1041 | Remedial Measures for Failure to Construct Digital Television Stations (DTV Policy Statement) | 09/30/06.
3060-1042 | Request for Technical Support | 09/30/06.
3060-1043 | Provision of Improved Telecommunications Relay Services and Speech-to-Speech Services for Individuals with Hearing and Speech Disabilities, CC Docket No. 98-67 | 09/30/06.
3060-1044 | Review of the Section 251 Unbundling Obligations of Incumbent Local Exchange Carriers, CC Docket Nos. 01-338, 96-98 and 98-147 | 03/31/07.
3060-1045 | FCC 324 | 12/31/06.
3060-1046 | Implementation of the Pay Telephone Reclassification and Compensation Provisions of the Telecommunications Act of 1996, CC Docket No. 96-128 | Pending OMB approval.
3060-1047 | Telecommunications Relay Services and Speech-to-Spech Services for Individuals with Hearing and Speech Disabilities, Second Report and Order, Order to Reconsideration, CC Docket No. 98-67 | 01/31/07.
3060-1048 | Sec. 1.929(c)(1) | 01/31/07.
3060-1049 | Digital Broadcast Content Protection, MB Docket No. 02-230 | 05/31/04.
3060-1050 | New Allocation for Amateur Radio Service, ET Docket No. 02-98 | 06/30/04.
3060-1051 | Certification Letter Accounting for Receipt of Federal Support, CC Docket Nos. 96-45 and 96-262, NPRM | 01/31/07.
3060-1053 | Telecommunications Relay Services, and Speech-to-Speech Services for Individuals with Hearing and Speech Disabilities, Declaratory Ruling, CC Docket No. 98-67 | 02/28/07.
3060-1054 | FCC 422-IB | 02/28/07.
3060-1055 | FCC 423-IB | 02/28/07.
3060-1056 | FCC 421-IB | 02/28/07.
3060-1057 | FCC 420-IB | 02/28/07.
3060-1058 | Promoting Efficient Use of Spectrum through the Elimination of Barriers to the Development of Secondary Markets, WT Docket No. 00-230 | 07/31/04.
3060-1059 | Revision of the Commission's Rules to Ensure Compatibility with Enhanced 911 Emergency Calling Systems; Amendment of Parts 2 and 25 to Implement the Global Mobile Personal Communications by Satellite (GMPCS), Memorandum of Understanding | 03/31/07.
3060-1060 | Wireless E911 Coordination Initiative Letter | 07/31/04.

[FR Doc. 04-6318 Filed 3-24-04; 8:45 am]

BILLING CODE 6712-01-P